DEPARTMENT OF THE INTERIOR

Minerals Management Service

Notice of Offering of Five Alternative Energy Interim Policy Leases for Wind Resource Data Collection on the Outer Continental Shelf Offshore Delaware and New Jersey; Notice of Availability of an Environmental Assessment

AGENCY: Minerals Management Service (MMS), Interior.

ACTION: Notice of Lease Offering; Notice of Availability of an Environmental Assessment.

SUMMARY: Notice is given that the MMS will issue five limited leases authorizing wind resource data collection on the Outer Continental Shelf (OCS) offshore New Jersey and Delaware. Five OCS blocks will be leased for a term of 5 years; and the annual rent will be $3.00 per acre as established in the interim policy published in the Federal Register (72 FR 214, pp. 62673-62675) on November 6, 2007. The OCS blocks will be leased subject to the terms set forth in the lease form published in the Federal Register (73 FR 77, pp. 21363-21375) on April 21, 2008, and also subject to stipulations. The MMS will issue leases for four OCS blocks off the coast of New Jersey and one off the coast of Delaware to four companies: Bluewater Wind Delaware, LLC; Bluewater Wind New Jersey Energy LLC; Fishermen's Energy of New Jersey, LLC, and Deepwater Wind, LLC. The OCS blocks off the coast of New Jersey are Wilmington NJ 18-02 Block 6936 to Bluewater Wind New Jersey Energy, LLC; Wilmington NJ 18-02 Block 6931 to Fishermen's Energy of New Jersey, LLC; Wilmington NJ 18-02 Block 6738 and Wilmington NJ 18-02 Block 7033 to Deepwater Wind, LLC. The OCS block MMS will lease off the coast of Delaware is Salisbury NJ 18-05 Block 6325 to Bluewater Wind Delaware, LLC.

The MMS is also giving notice that MMS is making available to the public an environmental assessment (EA) that addresses the issue of whether offering of leases off the coasts of New Jersey and Delaware would have a significant effect on the human environment and whether an environmental impact statement (EIS) must be prepared pursuant to the National Environmental Policy Act of 1969 (NEPA), as amended, 42 U.S.C. 4321 et seq. Based on the environmental review set forth in the EA, the MMS has determined that no significant effects on the human environment have been identified that would result from the issuance of leases for wind resource data collection on the OCS off the coasts of New Jersey and Delaware. Therefore, MMS concluded that an EIS was not required under the NEPA and prepared a Finding of No Significant Impact (FONSI). The MMS is making available the FONSI and the decision memorandum approving the selection of the preferred alternative on the MMS Web site provided at the time of this notice.

SUPPLEMENTARY INFORMATION:

Background. Section 388 of the Energy Policy Act of 2005 (EPAct) gave the Secretary of the Department of the Interior (DOI) the authority to issue leases, easements and rights-of-way on the OCS for alternative energy activities. In a Request for Information and Nominations published on November 6, 2007, in the Federal Register (72 FR 214, pp. 62673-62675) the MMS announced that it had established an interim policy under which it would issue limited leases authorizing alternative energy resource assessment data collection and technology testing activities on the OCS and that it was accepting requests for limited leases to conduct such activities. Limited leases issued under the interim policy for energy resource assessment data collection and technology testing activities have a term of 5 years, and do not authorize the production or transmission of energy. Subsequently, MMS received more than 40 nominations proposing areas for limited leases on the OCS off the Pacific and Atlantic Coasts. The MMS reviewed in detail all nominations received and established priority areas for initial leasing based on considerations such as technological complexity, geographical balance, timing needs, competing space-use issues, and relevant State-supported renewable energy activities and initiatives. The MMS also took into consideration the importance of supporting the advancement of activities relating to the development of each of the renewable energy resource types cited in the nominations—wind, current, and wave. In April 2008, MMS identified a subset of 16 proposed lease areas for priority consideration, including 7 areas offshore Delaware and New Jersey, and provided public notice of those areas in the Federal Register (73 FR 76, pp. 21152-21155) in which it sought other project proposals for those areas for the purpose of determining competitive interest as required by the EPAct. No competing nominations were received for any of the areas offshore Delaware and New Jersey, allowing the MMS to proceed with the issuance of the leases noncompetitively and the required environmental review. The MMS received applications for five of the initial seven lease areas proposed offshore Delaware and New Jersey. The five limited leases are as follows:

State | Approximate distance offshore | Technology type | Protraction | Company
New Jersey | 15-18 miles | Wind | Wilmington NJ 18-02, block 6936 | Bluewater Wind New Jersey Energy, LLC.
New Jersey | 7-10 miles | Wind | Wilmington NJ 18-02, block 6931 | Fishermen's Energy of New Jersey, LLC.
New Jersey | 15-18 miles | Wind | Wilmington NJ 18-02, block 6738 | Deepwater Wind, LLC.
New Jersey | 12-15 miles | Wind | Wilmington NJ 18-02, block 7033 | Deepwater Wind, LLC.
Delaware | 12-15 miles | Wind | Salisbury NJ 18-05, block 6325 | Bluewater Wind Delaware, LLC.

The limited leases will be governed by the terms outlined in the interim policy lease and stipulations. The interim policy lease form was published in the Federal Register (73 FR 77, pp. 21363-21375) on April 21, 2008.

Environmental Assessment. The MMS has prepared an EA to determine whether issuance of leases under MMS' alternative energy interim policy authorizing wind resource data collection on seven lease blocks, including the five lease blocks listed above, located on the OCS offshore Delaware and New Jersey would have a significant effect on the human environment and whether an EIS must be prepared. The EA examines potential effects of activities associated with the proposed action—the issuance of seven limited leases—and the alternatives (reduced number of leases and no action) that would occur over the life of the leases, including site assessment activities, construction, operation, and decommissioning of meteorological and oceanographic data collection facilities. The EA concluded that offshore activities would result in localized impacts and impacts from the individual meteorological towers. The activities related to the seven proposed facilities would not overlap due to the distance between the proposed lease areas. Therefore, the EA concluded that there would be no additive effect on offshore environmental resources by approving multiple locations for wind resource data collection. The proposed leases would be located 7-18 miles from the nearest shoreline and result in virtually no visual impacts. There also would be no need to expand existing onshore facilities or construct new facilities to support staging and fabrication of meteorological towers. There would, however, be a small increase in vessel traffic associated with limited construction and decommissioning activities for very short time periods. During the operation of the proposed meteorological towers, there would be no significant impacts on air and water quality; coastal, wildlife, and archeological resources; or fishing and recreational activities. Furthermore, EA recommended that several mitigation measures, in the form of lease stipulations, be added to the lease that would reduce or eliminate the potential impacts to the environment. Based on the analyses in the EA, no significant effects on the human environment were identified that would result from the proposed action. Therefore, MMS has concluded that an EIS is not required and prepared a FONSI.

EA Availablity: The EA, FONSI, and decision memorandum are available on the MMS Web site at: http://www.mms.gov/offshore/AlternativeEnergy/RegulatoryInformation.htm.

FOR FURTHER INFORMATION CONTACT:

Regarding the Lease Issuance: Ms. Maureen Bornholdt, Program Manager, Office of Offshore Alternative Energy Programs, 381 Elden Street MS 4090, Herndon, Virginia 20170, (703) 787-1300.

Regarding the Environmental Assessment: Mr. James F. Bennett, Chief, Branch of Environmental Assessment, 381 Elden Street MS 4042, Herndon, Virginia 20170, (703) 787-1660.

Dated: June 12, 2009.
Walter D. Cruickshank,
Acting Director, Minerals Management Service.

[FR Doc. E9-15169 Filed 6-25-09; 8:45 am]

BILLING CODE 4310-MR-P